DEPARTMENT OF TRANSPORTATION

Federal Aviation Administration

14 CFR Part 33

[ANE-2010-33.7-5A]

Aviation Fuel and Oil Operating Limitations; Policy Memorandum

AGENCY: Federal Aviation Administration (FAA), DOT.

ACTION: Issuance of policy memorandum.

SUMMARY: This document announces the issuance of policy memorandum for Aviation Fuel and Oil Operating Limitations. This policy memorandum provides guidance for Aircraft Certification Offices (ACOs) and the Engine Certification Office (ECO) when evaluating compliance with the standards for aviation fuel and oil operating limitations. This policy does not create any new requirements, and is not specifically limited to new model type certification.

DATES: The Engine and Propeller Directorate issued Policy Memorandum ANE-2010-33.7-5A on July 26, 2011.

FOR FURTHER INFORMATION CONTACT: Mark Rumizen, FAA, Engine and Propeller Standards Staff, ANE-111, 12 New England Executive Park, Burlington, MA 01803; e-mail: mark.rumizen@faa.gov; telephone: (781) 238-7113; fax: (781) 238-7199. The policy statement is available on the Internet at the following address: http://www.airweb.faa.gov/rgl. If you do not have access to the Internet, you may request a copy of the policy by contacting the individual listed in this section.

SUPPLEMENTARY INFORMATION: The Engine and Propeller Directorate (EPD) of the Aircraft Certification Service has engaged in discussions with the public regarding compliance with § 33.7 for new fuel and oil certification projects. As a result of those discussions the EPD made a draft policy memorandum available to the public for comment. The draft policy memorandum proposed guidance for Aircraft Certification Offices (ACOs) and the Engine Certification Office (ECO) when evaluating compliance with the standards for aviation fuel and oil operating limitations of Part 33 of Title 14 of the Code of Federal Regulations (14 CFR part 33). The draft policy specifically addressed compliance with paragraphs (b)(2), (b)(3), (c)(2), and (c)(3) of § 33.7 for engine type certification, major design change, and supplemental type certification projects.

The draft was made available on March 8, 2010, and after evaluating the comments received, the EPD posted a final policy memorandum to FAA's Regulatory and Guidance Library (RGL) on July 7, 2011. The final policy memorandum differed from the draft policy in three respects. First, the final policy contained some non-material additions, edits, and formatting changes principally to recognize the role that military standards play in evaluating compliance with § 33.7, and added an additional ATSM International (ASTM) standard to the list of recognized standards. Second, the format of paragraph 4.c. of the final memorandum was changed so as to clarify that the new policy memorandum does not materially alter the current position of the EPD to (1) accept as an adequate demonstration of compliance to § 33.7 an ASTM or Society of Automotive Engineers (SAE) standard, and (2) more precisely define the standard specifications considered equivalent to an ASTM or SAE standard specification. And, third, to add a new paragraph 4.d., which replaced the proposed paragraph 4.d., that more accurately described the EPD's oversight role in such projects by clarifying that all projects to add fuels or lubricants as operating limitations are significant, rather than just those that propose the use of equivalent specifications. That policy memorandum was posted to RGL as policy ANE-2010-33.7-5, dated July 7, 2011.

After the final policy posted to RGL, the FAA received a number of questions from the public concerning the revision to draft paragraph 4.d., which had contained a statement that certification projects that do not propose to use an ATSM or SAE standard would be evaluated by the EPD to determine equivalency to the historically used standards. The final policy memorandum relied on a sentence in paragraph 5 to cover that statement in draft paragraph 4.d. As stated above, this change more accurately described the EPD's role in the oversight of projects to add fuels or lubricants as operating limitations. The EPD intended that the specific guidance for proposals not based on industry consensus standards was accommodated by the existing language in paragraph 5 of the memo, and, therefore, it was unnecessary to duplicate that specific guidance in paragraph 4.d. The elimination of the specific guidance regarding proposals not based on industry consensus standards was not intended to imply that the FAA would summarily reject those so-called non-standard proposals. As significant projects, the EPD would continue to address all projects to add fuels or lubricants as operating limitations on a case by case basis in order to rationally evaluate their demonstration of compliance with § 33.7, which is consistent with the current practice. With the above changes, the published version of the memo neither explicitly accepted nor rejected those projects outside the scope of the specific policy, such as the non-standard proposals. However, Paragraph 5 of the memo maintained the accommodation of those projects by specifying they be coordinated with the EPD, which was consistent with the intent of the original version of the policy memo.

Even though the EPD did not intend any material change in the policy from the revised wording of proposed paragraph 4.d., the EPD has elected to withdraw the final policy memorandum ANE-2010-33.7-5, dated July 7, 2011, and to re-post to the RGL an amended final policy that returns paragraphs 4.c. and 4.d. to the form that appeared in the draft policy and eliminates the new paragraph 4.d. This amended final policy memorandum was posted to the RGL on July 26, 2011, as policy ANE-2010-33.7-5A.

Authority: 49 U.S.C. 106(g), 40113, 44701-44702, 44704.

Issued in Burlington, Massachusetts on July 29, 2011.
Colleen M. D'Alessandro,
Acting Assistant Manager, Engine and Propeller Directorate Aircraft Certification Service.

[FR Doc. 2011-19913 Filed 8-4-11; 8:45 am]

BILLING CODE 4910-13-M